DEPARTMENT OF TRANSPORTATION

Federal Highway Administration

Environmental Impact Statement: Scioto County, OH

AGENCY: Federal Highway Administration (FHWA), DOT.

ACTION: Notice of Intent.

SUMMARY: The FHWA is issuing this notice to advise the public that an Environmental Impact Statement will be prepared for a proposed highway project in Scioto County, Ohio.

FOR FURTHER INFORMATION, CONTACT: Andreas Garnes, Rural Programs Engineer, Federal Highway Administration, 200 N. High Street, Room 328, Columbus, Ohio 43215, Telephone: (614) 280-6856.

SUPPLEMENTARY INFORMATION: The FHWA, in cooperation with the Ohio Department of Transportation, will prepare an Environmental Impact Statement (EIS) for a proposal to improve transportation in the United States Route 23 and United State Route 52 (US 23/US 52) corridor by locating a freeway route from the vicinity of Lucasville being the northern terminus to the vicinity of Sciotoville being the southern terminus via the preferred alternative study area identified in the Feasibility Study Report dated April 2001. A transportation investment is considered necessary to improve the regional transportation network by providing an improved travel corridor; to reduce anticipated congestion on US 23/US 52 from projected traffic volumes; to improve safety; and to support existing industry and future development through improved access to southern Ohio. Alternatives under consideration include: (1) Taking no action; (2) building a modern five-lane rural arterial utilizing existing roadways within the Airport Bypass Study Area as defined in the September 2000 Feasibility Study Report; and (3) constructing a roadway on a new alignment bypassing the City of Portsmouth within the Airport Bypass Study Area.

US 23/US 52 through the study area contain physical limitations that contribute to several transportation problems. These problems include high traffic volumes and the diversion of through traffic to local roadways. These inadequacies lead to safety problems, reduced levels of service, and transportation inefficiencies.

The proposed improvement of US 23/US 52 would meet the intent of the Appalachian Regional Commission, as well as the goals of Access Ohio, of improving mobility along this macro corridor in order to encourage economic development. The US 23/US 52 corridor is part of Appalachian Corridor B and a larger roadway network connecting Columbus, Ohio to Asheville, North Carolina. With US 23 upgrades either completed or under construction south of Ohio, the only gaps remaining in this route will be in Ohio. Substantial transportation improvements in the study area could close an important “missing link” in the overall corridor.

Letters describing the proposed action and soliciting comments will be sent to appropriate Federal, State, and local agencies, and to private organizations and citizens who have previously expressed or are known to have interest in this proposal. A series of public meetings will be held in the project area. These are currently anticipated for Summer of 2002 and Winter of 2003. In addition, a hearing will be held in conjunction with the Draft EIS in late 2003. Public notice will be given of the exact time and place of the meetings and hearing to be held for the project. The Draft EIS will be available for public and agency review and comment prior to the public hearing. No formal scoping meeting is planned at this time.

To ensure that the full range of issues relating to this proposed action are addressed, and all significant issues identified, comments and suggestions are invited from all interested parties. Comments or questions concerning this proposed action and the EIS should be sent to the FHWA at the address provided above. (Catalog of Federal Domestic Assistance Program Number 20.205, Highway Planning and Construction. The regulations implementing Executive Order 12372 regarding intergovernmental consultation on Federal programs and activities apply to this program.)

Issued on: July 9, 2001.
Andreas Garnes,
Rural Programs Engineer, Federal Highway Administration, Columbus, Ohio

[FR Doc. 01-17886 Filed 7-17-01; 8:45 am]

BILLING CODE 4910-22-P